DEPARTMENT OF AGRICULTURE

Forest Service

Gallatin County Resource Advisory Committee

AGENCY: Forest Service, USDA.

ACTION: Notice of meeting.

SUMMARY: The Gallatin County Resource Advisory Committee will meet in Bozeman, Montana. The committee is authorized under the Secure Rural Schools and Community Self-Determination Act (Pub. L. 112-141) (the Act) and operates in compliance with the Federal Advisory Committee Act. The purpose of the committee is to improve collaborative relationships and to provide advice and recommendations to the Forest Service concerning projects and funding consistent with the title II of the Act. The meeting is open to the public. The purpose of the meeting is to review and recommend projects authorized under title II of the Act.

DATES: The meeting will be held Wednesday, September 12, 2012 from 1 p.m. to 5 p.m.

ADDRESSES: The meeting will be held at the Bozeman Public Library, 626 East Main Street Bozeman, MT 59715. Written comments may be submitted as described under Supplementary Information. All comments, including names and addresses when provided, are placed in the record and are available for public inspection and copying.

The public may inspect comments received at 1310 Main Street, Billings, Montana Please call ahead to 406-255-1411 to facilitate entry into the building to view comments.

FOR FURTHER INFORMATION CONTACT: Mariah Leuschen, RAC Coordinator, Custer and Gallatin National Forests, (406) 255-1411 or Mary Erickson, Forest Supervisor and Designated Federal Official, Custer and Gallatin National Forests, (406) 587-6949. Individuals who use telecommunication devices for the deaf (TDD) may call the Federal Information Relay Service (FIRS) at 1-800-877-8339 between 8 a.m. and 8 p.m., Eastern Standard Time, Monday through Friday.

SUPPLEMENTARY INFORMATION: The following business will be conducted: Overview of current project status and discussion and decisions on future project recommendations. Anyone who would like to bring related matters to the attention of the committee may file written statements with the committee staff before or after the meeting. The agenda will include time for people to make oral statements of three minutes or less. Individuals wishing to make an oral statement should request in writing by September 1, 2012 to be scheduled on the agenda. Written comments and requests for time for oral comments must be sent to Mariah Leuschen, 1310 Main Street, Billings, Montana 59105, or by email to mdleuschen@fs.fed.us, or via facsimile to 406-255-1499. A summary of the meeting will be posted at www.fs.usda.gov/gallatin within 21 days of the meeting.

Meeting Accommodations: If you are a person requiring reasonable accomodation, please make requests in advance for sign language interpreting, assistive listening devices or other reasonable accomodation for access to the facility or procedings by contacting the person listed under FOR FURTHER INFORMATION CONTACT. All reasonable accommodation requests are managed on a case- by-case basis.

Dated: August 8, 2012.
Marna Daley,
Acting Forest Supervisor.

[FR Doc. 2012-19881 Filed 8-16-12; 8:45 am]

BILLING CODE 3410-11-M